DEPARTMENT OF HOMELAND SECURITY

Federal Emergency Management Agency

44 CFR Part 65

[Docket ID FEMA-2011-0002; Internal Agency Docket No. FEMA-B-1199]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama:
Jefferson | Unincorporated areas of Jefferson County (10-04-7732P) | April 6, 2011; April 13, 2011; The Alabama Messenger | The Honorable David Carrington, President, Jefferson County Commission, 716 Richard Arrington Jr. Boulevard North, Birmingham, AL 35203 | August 11, 2011 | 010217
Tuscaloosa | City of Tuscaloosa (10-04-6941P) | April 4, 2011; April 11, 2011; The Tuscaloosa News | The Honorable Walter Maddox, Mayor, City of Tuscaloosa, 2201 University Boulevard, Tuscaloosa, AL 35401 | April 29, 2011 | 010203
Arizona:
Maricopa | City of Tolleson (10-09-3593P) | April 26, 2011; May 3, 2011; The West Valley Business | The Honorable Adolfo F. Gámez, Mayor, City of Tolleson, 9555 West Van Buren Street, Tolleson, AZ 85353 | April 18, 2011 | 040055
Mohave | City of Lake Havasu City (10-09-2386P) | April 7, 2011; April 14, 2011; The Today's News-Herald | The Honorable Mark S. Nexsen, Mayor, City of Lake Havasu City, 2330 McCulloch Boulevard, Lake Havasu City, AZ 86403 | March 28, 2011 | 040116
Yavapai | Unincoporated areas of Yavapai County (11-09-0165P) | April 7, 2011; April 14, 2011; The Daily Courier | The Honorable Carol Springer, Chair, Yavapai County Board of Supervisors, 1015 Fair Street, Prescott, AZ 86305 | August 12, 2011 | 040093
Colorado:
Arapahoe | City of Aurora (10-08-0937P) | March 17, 2011; March 24, 2011; The Aurora Sentinel | The Honorable Ed Tauer, Mayor, City of Aurora, 15151 East Alameda Parkway, Aurora, CO 80012 | March 10, 2011 | 080002
Mesa | Unincorporated areas of Mesa County (11-08-0384P) | May 3, 2011; May 10, 2011; The Daily Sentinel | The Honorable Janet Rowland, Chair, Mesa County Board of Commissioners, P.O. Box 20000, Grand Junction, CO 81502 | April 26, 2011 | 080115
Routt | City of Steamboat Springs (11-08-0283P) | May 1, 2011; May 8, 2011; The Steamboat Pilot & Today | Mr. Jon B. Roberts, City of Steamboat Springs Manager, P.O. Box 775088, Steamboat Springs, CO 80477 | September 6, 2011 | 080159
Florida:
Monroe | Unincorporated areas of Monroe County (11-04-2239P) | April 6, 2011; April 13, 2011; The Key West Citizen | The Honorable Heather Carruthers, Mayor, Monroe County, 530 Whitehead Street, Key West, FL 33040 | August 11, 2011 | 125129
Volusia | Unincorporated areas of Volusia County (10-04-4834P) | April 7, 2011; April 14, 2011; The Beacon | Mr. James Dinneen, Volusia County Manager, 123 West Indiana Avenue, DeLand, FL 32720 | August 12, 2011 | 125155
Georgia:
Bryan | Unincorporated areas of Bryan County (10-04-4427P) | April 6, 2011; April 13, 2011; The Bryan County News | The Honorable Jimmy Burnsed, Chairman, Bryan County Board of Commissioners, 51 North Courthouse Street, Pembroke, GA 31321 | August 11, 2011 | 130016
Forsyth | Unincorporated areas of Forsyth County (11-04-1171P) | March 23, 2011; March 30, 2011; The Forsyth County News | The Honorable Brian R. Tam, Chairman, Forsyth County Board of Commissioners, 110 East Main Street, Suite 210, Cumming, GA 30040 | July 28, 2011 | 130312
Montana:
Yellowstone | Unincorporated areas of Yellowstone County (10-08-0854P) | March 31, 2011; April 7, 2011; The Billings Gazette | The Honorable Bill Kennedy, Chairman, Yellowstone County Board of Commissioners, P.O. Box 35000, Billings, MT 59107 | August 5, 2011 | 300142
Nevada:
Douglas | Unincorporated areas of Douglas County (10-09-3566P) | April 6, 2011; April 13, 2011; The Record-Courier | The Honorable Michael A. Olson Chairman, Douglas County Board of Commissioners, 3605 Silverado Drive, Carson City, NV 89705 | August 11, 2011 | 320008
North Carolina:
Caldwell | Unincorporated areas of Caldwell County (10-04-7739P) | January 20, 2011; January 27, 2011; The Lenoir News-Topic | Mr. Stan Kiser, Caldwell County Manager, P.O. Box 2200, 905 West Avenue Northwest, Lenoir, NC 28645 | May 27, 2011 | 370039
Columbus | Unincorporated areas of Columbus County (10-04-6815P) | April 7, 2011; April 14, 2011; The News Reporter | Mr. Giles E. Byrd, Chairman, Columbus County Board of Commissioners, 112 West Smith Street, Whiteville, NC 28472 | August 12, 2011 | 370305
Durham | City of Durham (10-04-4374P) | March 30, 2011; April 6, 2011; The Herald-Sun | The Honorable William V. Bell, Mayor, City of Durham, 101 City Hall Plaza, Durham, NC 27701 | August 4, 2011 | 370086

(Catalog of Federal Domestic Assistance No. 97.022, “Flood Insurance.”)

Dated: June 10, 2011.
Sandra K. Knight,
Deputy Federal Insurance and Mitigation Administrator, Mitigation, Department of Homeland Security, Federal Emergency Management Agency.

[FR Doc. 2011-15308 Filed 6-17-11; 8:45 am]

BILLING CODE 9110-12-P